Proclamation 10479 of October 14, 2022

National Forest Products Week, 2022

By the President of the United States of America

A Proclamation

During National Forest Products Week, we give thanks for the beauty of our forests and the bounty they provide: from the lumber in our homes and the paper we print to the medicines we take, the water we drink, and the air we breathe. We recommit this week to sustainable stewardship and management of our forests—not only preserving our forests' splendor for recreation or sacred Tribal ceremonies but also for safeguarding key economic resources, supporting millions of jobs, and helping to ease the climate crisis.

The United States is the world's largest producer of forest products, and every day, American foresters, loggers, mill workers, carpenters, scientists, restoration specialists, outdoor recreation workers, and others rely on forests for their livelihoods. But across America and the world, forests are under threat. Wildfires are growing more frequent and ferocious, super-charged by the climate crisis and decades of poor forest management. Globally, illegal deforestation devastates habitats and impedes forests' essential role in preserving biodiversity, filtering water, and absorbing carbon from the atmosphere, which slows our fight against climate change.

My Administration is committed to conserving, restoring, and revitalizing forests at home and abroad to preserve our environment and protect an important pillar of our economy. We have taken the most aggressive climate action in American history, including new investments in forest health and resilience, and fire prevention. The historic Bipartisan Infrastructure Law and Inflation Reduction Act put Americans to work combating wildfires, safeguarding mature and old-growth forests on Federal lands while also planting over a billion new trees. We are also committed to working with global partners to fight deforestation and are cracking down on the trafficking of illegally logged wood. I have signed an Executive Order to protect forests here at home as well, partnering with Tribal nations, local governments, and non-profits to boost conservation and create jobs. The order expressly recognizes the importance of Indigenous knowledge, practices, and Tribal treaty rights in forest management. I have used my authority under the Antiquities Act to restore protections to some of our most treasured national monuments, including places that have been sacred to Native peoples since time immemorial.

Meanwhile, innovations in sustainable wood manufacturing are creating good-paying union jobs on construction sites across the country. To further those gains, my Administration has awarded Forest Service Wood Innovations and Community Wood grants across the country. These market-based actions, along with other Federal and locally led efforts to conserve and restore forests nationwide, will bring us closer to reaching our “America the Beautiful” goal of voluntarily conserving at least 30 percent of our lands and waters by 2030 while also supporting hard working American families.

To recognize the importance of the many products generated by our Nation's forests, the Congress, by Public Law 86-753 (36 U.S.C. 123), as amended, has designated the week beginning on the third Sunday in October of each year as “National Forest Products Week” and has authorized and requested the President to issue a proclamation in observance of this week. In honor of this year's National Forest Products Week, my Administration will continue working across public, Tribal, and private lands to conserve America's forests and protect the vital resources they provide. Together, we can strengthen our economy and pass on a healthier planet to our children and our grandchildren.

NOW, THEREFORE, I, JOSEPH R. BIDEN JR., President of the United States of America, by virtue of the authority vested in me by the Constitution and the laws of the United States, do hereby proclaim October 16 through October 22, 2022, as National Forest Products Week. I call upon the people of the United States to join me in this observance and in recognizing all Americans who are responsible for the stewardship of our Nation's beautiful, forested landscapes.

IN WITNESS WHEREOF, I have hereunto set my hand this fourteenth day of October, in the year of our Lord two thousand twenty-two, and of the Independence of the United States of America the two hundred and forty-seventh.

[FR Doc. 2022-22830

Filed 10-18-22; 8:45 am]

Billing code 3395-F3-P